ENVIRONMENTAL PROTECTION AGENCY

[FRL-7241-9]

Agency Information Collection Activities: Proposed Collection; Comment Request; Synopses of Proposed Contract Actions and Market Research Questions

AGENCY: Environmental Protection Agency (EPA).

ACTION: Notice.

SUMMARY: In compliance with the Paperwork Reduction Act (44 U.S.C. 3501 et seq.), this document announces that EPA is planning to submit the following continuing Information Collection Request (ICR) to the Office of Management and Budget (OMB): Synopses of Proposed Contract Actions and Market Research Questions, EPA ICR Number 1910.02, OMB Control No. 2030-0039 expiring 12/31/02. Before submitting the ICR to OMB for review and approval, EPA is soliciting comments on specific aspects of the proposed information collection as described below.

DATES: Comments must be submitted on or before September 3, 2002.

ADDRESSES: Ariel Rios Building, 1200 Pennsylvania Avenue NW, Attn: 3802R, Washington, DC 20460.

FOR FURTHER INFORMATION OR A COPY CONTACT: Jill Robbins, (202) 564-1052, email: robbins.jill@epa.gov

SUPPLEMENTARY INFORMATION:

Affected entities: Entities potentially affected by this action are those which seek to provide supplies and services to EPA. Title: Synopsis of Proposed Contract Actions and Market Research Questions (OMB Control Number 2030-0039 ; EPA ICR No. 1910.02) expiring ­12/31/02.

Abstract: EPA frequently publicizes anticipated contract actions in accordance with FAR Part 5, and also conducts market research in accordance with FAR Part 10. In both instances, the public is invited to voluntarily respond to specific questions regarding anticipated procurements or to provide comments to EPA. Comments received are used by the Agency for acquisition planning purposes. An agency may not conduct or sponsor, and a person is not required to respond to, a collection of information unless it displays a currently valid OMB control number. The OMB control numbers for EPA's regulations are listed in 40 CFR part 9 and 48 CFR Chapter 15.

The EPA would like to solicit comments to:

(i) Evaluate whether the proposed collection of information is necessary for the proper performance of the functions of the agency, including whether the information will have practical utility;

(ii) Evaluate the accuracy of the agency's estimate of the burden of the proposed collection of information, including the validity of the methodology and assumptions used;

(iii) Enhance the quality, utility, and clarity of the information to be collected; and

(iv) Minimize the burden of the collection of information on those who are to respond, including through the use of appropriate automated electronic, mechanical, or other technological collection techniques or other forms of information technology, e.g., permitting electronic submission of responses.

Burden Statement: The annual public reporting and record keeping burden for this collection of information is estimated to average 3.25 hours per response. It is estimated that any individual may respond to synopses or market research questions 5 times per year. EPA anticipates publicizing approximately 250 contract actions per year, and conducting 3800 market research inquiries. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Dated: June 28, 2002.
Leigh Pomponio,
Manager, Policy and Oversight Service Center.

[FR Doc. 02-16856 Filed 7-3-02; 8:45 am]

BILLING CODE 6560-50-P